CONSUMER PRODUCT SAFETY COMMISSION

16 CFR Part 1422

RIN 3041-AC78

Standard for Recreational Off-Highway Vehicles

AGENCY: Consumer Product Safety Commission.

ACTION: Advance notice of proposed rulemaking.

SUMMARY: The Consumer Product Safety Commission (“Commission”) is considering whether there may be unreasonable risks of injury and death associated with Recreational Off-Highway Vehicles (ROVs). This advance notice of proposed rulemaking (ANPR) begins a rulemaking proceeding under the Consumer Product Safety Act (CPSA).¹

¹ The Commission voted 4-0 to publish this ANPR in the Federal Register. Chairman Inez M. Tenenbaum and Commissioners Robert Adler, Thomas Moore, and Nancy Nord voted to publish the ANPR. Commissioner Anne Northup abstained from voting. Chairman Tenenbaum issued a statement, which can be found at http://www.cpsc.gov/pr/tenenbaum10212009.pdf.

DATES: Written comments in response to this document must be received by the Commission no later than December 28, 2009.

ADDRESSES: You may submit comments, identified by Docket No. CPSC-2009-0087, by any of the following methods:

Electronic Submissions

Submit electronic comments in the following way: Federal eRulemaking Portal: http://www.regulations.gov. Follow the instructions for submitting comments. To ensure timely processing of comments, the Commission is no longer accepting comments submitted by electronic mail (e-mail) except through http://www.regulations.gov.

Written Submissions

Submit written submissions in the following way:

Mail/Hand delivery/Courier (for paper (preferably in five copies), disk, or CD-ROM submissions), to: Office of the Secretary, Consumer Product Safety Commission, Room 502, 4330 East West Highway, Bethesda, MD 20814; telephone (301) 504-7923.

Instructions: All submissions received must include the agency name and docket number for this rulemaking. All comments received may be posted without change, including any personal identifiers, contact information, or other personal information provided, to http://www.regulations.gov. Do not submit confidential business information, trade secret information, or other sensitive or protected information electronically. Such information should be submitted in writing.

Docket: For access to the docket to read background comments or comments received, go to http://www.regulations.gov.

FOR FURTHER INFORMATION CONTACT: Caroleene Paul, Project Manager, Recreational Off-Highway Vehicle Team, Directorate for Engineering Sciences, Consumer Product Safety Commission, 4330 East West Highway, Bethesda, Maryland 20814-4408; telephone (301) 504-7540 or e-mail: cpaul@cpsc.gov.

SUPPLEMENTARY INFORMATION:

A. Background

In general, ROVs are motorized vehicles having four or more low pressure tires designed for off-road use and intended by the manufacturer primarily for recreational use by one or more persons. ROVs are a relatively new product in the motorized off-road vehicle category, and, as explained in more detail in part B of this preamble below, their speed and design make them distinct from other vehicles such as all-terrain vehicles (ATVs), light utility vehicles, and golf carts. The number of manufacturers and importers marketing ROVs in the United States has increased substantially in recent years. The first utility vehicle that exceeded 30 mph, thus putting it in the ROV category, was introduced in the late 1990s. No other manufacturer offered a ROV until 2003. Since 2003, more than a dozen manufacturers and importers have entered the market, mostly in only the last couple of years.

The Commission has received more than 180 reports of ROV-related injury and fatality incidents occurring between January 2003 and August 2009. Additionally, non-fatal injuries involving ROVs are significant in nature, often resulting in amputation, degloving,² or other severe injury of extremities that can cause permanent disfigurement. Although a voluntary standard for ROVs has been proposed (as discussed in part D.3 of this preamble), the Commission does not believe the proposed voluntary standard as currently drafted adequately addresses the risk of injury associated with ROVs. The Commission is considering whether there may be unreasonable deaths and injuries associated with ROVs such that rulemaking is necessary.

² A degloving is a type of injury in which a large section of skin and tissue is torn away, sometimes to the bone.

B. The Product

ROVs are motorized vehicles having four or more low pressure tires designed for off-road use and intended by the manufacturer primarily for recreational use by one or more persons. Other salient characteristics of an ROV include: A steering wheel for steering control, foot controls for throttle and braking, bench or bucket seats, rollover protective structure (ROPS), restraint system, and a maximum speed greater than 30 miles per hour (mph).

Although similar in configuration to some light utility vehicles and golf carts, ROVs differ from these vehicle classes by their ability to reach speeds greater than 30 mph. In addition, ROVs are more likely than utility vehicles to be used recreationally in an off-road environment. Light utility vehicles are used primarily in farm and work applications and have maximum speeds of 25 mph or less. Similarly, golf carts are intended for low speed applications (15 mph or less) on moderate terrain.

ROVs are intended to be used on similar terrain to that on which all-terrain vehicles (ATVs) are used, but are distinguished from ATVs by having a steering wheel instead of a handle bar, bench or bucket seats for the driver and passenger(s) instead of straddle seating, foot controls for throttle and braking instead of levers located on the handle bar, and ROPS and restraint systems that are not present on ATVs.

Retail Prices: The suggested retail prices for ROVs are generally higher than those for other types of recreational and utility vehicles. The prices of the ROVs offered by the five major manufacturers range from about $8,000 to $14,000, depending upon factors such as engine size and other features. The retail prices of most of the models offered by the smaller importers and distributors range from about $6,000 to $8,000.

There also is an active secondary market for ROVs. For models produced by the major manufacturers, prices for used ROVs range from as low as $2,000 to $3,000 for models produced in the early 2000's, to $5,000 to $8,000 for those produced in 2006 or 2007.³

³ National Automobile Dealers Association, Motorcycle/Snowmobile/ATV/Personal Watercraft Appraisal Guide, September-December 2009.

Sales and Numbers in Use: ROV sales have seen significant growth in a short time period. In 1998, only one manufacturer offered ROV models and fewer than 2,000 units were sold.⁴ By 2003, when a second major manufacturer entered the market, almost 20,000 ROVs were sold. In 2008, it is estimated that more than 126,000 ROVs were sold by more than a dozen different manufacturers or distributors.⁵

⁴ Based upon analysis of sales data compiled by Power Products Marketing, Eden Prairie, MN.

⁵ Id.

The CPSC's Product Population Model is a computer model that projects the number of products in use given information on product sales and the expected rate at which products fail or go out of use.⁶ The estimated approximate number of ROVs in use is a measure of risk exposure. Based on sales through 2008, and assuming an average product life of about 10 years, there may have been more than 416,000 ROVs in use at the end of 2008. This contrasts with fewer than 45,000 ROVs in use at the end of 2003.

⁶ For a more complete description of the Product Population Model, see M.L. Lahr and B.B. Gordon, Final Report on Product Life Model Feasibility and Development Study to Deputy Associate Executive Director for Economic Analysis, U.S. Consumer Product Safety Commission, prepared by Battelle Columbus Laboratories, Columbus, Ohio (14 July 1980).

C. The Risk of Injury

The Commission has received reports of 181 ROV-related fatality and injury incidents occurring between January 2003 and August 2009. Many reports were submitted to the CPSC by consumers, medical examiners, and police departments. In addition, the Commission obtained reports of ROV-related injury and fatality incidents through review of newspaper articles and other news sources, including online news reports. These incidents do not constitute a statistically derived sample of ROV-related incidents.

Because of the number and severity of the incidents, CPSC's Division of Hazard Analysis undertook a more thorough review of these incidents. From the 181 ROV-related incidents, the Commission is aware of 116 ROV-related fatalities and 152 ROV-related injuries. More than 30 percent of the 181 incidents were reported to involve more than one victim (either deceased or injured). In considering these counts, it is important to emphasize that data collection is ongoing, and these counts are expected to increase as CPSC staff obtains additional information regarding ROV-related incidents. In addition, the Commission is expecting to receive additional information regarding some of the 181 incidents reviewed. This information, together with reports of additional ROV-related incidents, may result in changes to some of the information.

Of the 152 injuries that were reported to have occurred as a result of ROV-related incidents, a number were very serious in nature. These injuries include deglovings, fractures, and crushing injuries involving the victims' legs, feet, arms and hands. In some cases, surgical amputation of the victims' injured limbs was required after the incident.

Of the 181 reported incidents, 125 (69 percent) of the incidents appeared to have involved overturning of the ROV, with no known collision event preceding the overturning. Additionally, 20 (11 percent) of the incidents were reported to have involved collision of the vehicle with either a stationary object or another motor vehicle.

Vehicle Overturning: Of the 125 incidents that involved overturning of the ROV, the CPCS staff was able to determine in 107 incidents whether or not a victim was ejected from the vehicle. Ninety-eight percent (105 of 107) of these incidents appeared to involve at least one victim who exited the vehicle, either partially or completely. Deceased or injured victims were ejected by being thrown out, falling out, jumping out, climbing out, or otherwise fully or partially exiting the vehicle. Partial ejections include victims' limbs (i.e., arms and legs) coming out of the vehicle and being crushed by some part of the vehicle.

Of the 125 incidents that involved overturning of the ROV, the CPSC staff was able to determine in 72 incidents whether or not the victim was wearing a seat belt. Seventy-one percent (51 of 72) of these incidents appeared to involve at least one victim who was either not using the seat belt or was wearing it improperly. (Improper seat belt use includes situations where the victim did not use the shoulder portion of the three-point restraint system on the ROV.)

Of the 125 incidents that involved overturning of the ROV, CPSC staff was able to determine in 71 incidents whether or not a victim was wearing a helmet. Ninety-six percent (68 of 71) of these incidents appeared to involve at least one victim who was either not wearing a helmet or who was wearing a helmet improperly.

Vehicle Collision: Of the 20 incidents that involved collision of the ROV, CPSC staff was able to determine in 14 incidents whether or not a victim was ejected from the vehicle. Seventy-nine percent (11 of 14) of these incidents appeared to involve at least one victim who exited the vehicle, either partially or completely. Deceased or injured victims were ejected by being thrown out, falling out, or otherwise completely or partially exiting the vehicle. Partial ejections include victims' limbs (i.e., arms and legs) coming out of the vehicle and being crushed by the vehicle. In some incidents, collision of the ROV was then followed by the overturning of the ROV. These incidents were categorized as “ROV collision” rather than as “Overturning.”

Of the 20 incidents that involved collision of the ROV, CPSC staff was able to determine in 12 incidents whether or not the victim was wearing a seat belt. Seventy-five percent (9 of 12) of the incidents appeared to involve at least one victim who was either not using the seat belt or who was wearing it improperly.

Of the 20 incidents that involved collision of the ROV, CPSC staff was able to determine in 15 incidents whether or not a victim was wearing a helmet. Eighty-seven percent (13 of 15) of these incidents appeared to involve at least one victim who was either not wearing a helmet or who was wearing a helmet improperly.

Societal Costs of Injuries: The societal costs of injuries include the medical cost of treating the injury, the cost of lost work due to the injury, intangible costs (such as pain and suffering), and the product insurance and litigation costs. The injury costs will vary by factors such as the severity of the injury (an injury resulting in a hospital stay is more costly than one that does not) and the body part affected (a head injury is usually more costly than an injury to a finger). Usually, the intangible cost (pain and suffering) is the largest component of the societal cost of injuries.

Assuming the non-fatal injuries associated with ROVs are similar to those associated with ATVs in terms of the severity and type of injury, then the average societal cost of an injury would be about $38,000. Pain and suffering would account for about 67 percent of the cost, medical costs would account for almost 13% of the cost, and work loss would account for about almost 20% of the cost. The legal and liability costs would account for less than one percent of the total. (These estimates are based on the average cost of an injury associated with an ATV calculated using the CPSC's Injury Cost Model (ICM).)

D. Current Safety Efforts

1. Testing: From November 2008 to January 2009, the Commission staff tested and evaluated several ROV models on the market. The staff's preliminary evaluations indicate that the vehicles may exhibit inadequate lateral stability, undesirable steering characteristics, and inadequate occupant protection during a roll over crash. CPSC staff believes improved lateral stability and vehicle handling can reduce some of the rollover related incidents. In addition, CPSC staff believes improved occupant retention and protection (including improved occupant use of seat belts) can reduce some of the occupant ejections associated with ROV rollover and collision. CPSC staff identified three factors related to the design of a ROV that have the greatest impact on occupant safety: (1) Static stability factor (SSF); (2) vehicle handling; and (3) occupant retention and protection.

a. SSF: The SSF of a vehicle is the ratio of the vehicle's track width to twice the height of its center of gravity.⁷ The National Highway Traffic Safety Administration (NHTSA) has established a strong correlation between a vehicle's SSF and the risk of rollover in a single vehicle crash. The risk of rollover for automobiles in a single-vehicle crash ranges from over 40% to less than 10% with a vehicle SSF range from 1.03 to 1.45.⁸ NHTSA's rollover ratings reflect the real-world rollover experience of vehicles involved in over 86,000 single-vehicle crashes.⁹ The higher the SSF value the more stable the vehicle, and the less likely the vehicle is to rollover. The SSF values for the ROV models (with 2 occupants) tested by CPSC staff ranged from 0.84 to 0.92, which is far lower than the range for automobiles. CPSC staff believes that a SSF range of 0.84 to 0.92 is inadequate for a vehicle that is specifically designed to traverse conditions, such as uneven terrain and slopes, that present an even greater rollover hazard to vehicles than level, on-road conditions.

⁷ SSF = T/2H, where T = vehicle track width and H = vertical distance from ground to vehicle's center of gravity.

⁸ http://www.safercar.gov.

⁹ Id.

b. Vehicle Handling: Passenger cars are deliberately designed to understeer. If a vehicle understeers in a turn, the front wheels lose traction and the steering wheel needs to be turned more to stay on the path of the turn. This condition is directionally stable and predictable. If a vehicle oversteers in a turn, by contrast, the rear wheels lose traction and the steering wheel needs to be turned less to stay on the turn. This condition is directionally unstable because it can result in spin out or rollover of the vehicle. Controlling oversteer requires driver skill and knowledge in using acceleration and steering that is beyond the average driver.

The CPSC testing of sample ROVs to SAE J266, Steady-State Directional Control Test Procedures for Passenger Cars and Light Trucks, a standard vehicle handling test, indicates that some model ROVs exhibit severe oversteer while other model ROVs exhibit understeer. The CPSC staff believes that ROVs should exhibit understeer characteristics that are similar to automobiles because such characteristics are safer and more familiar to drivers.

c. Occupant Retention and Protection: CPSC staff's testing of the sample ROVs to static and dynamic rollover simulations indicate that occupants may be better restrained in some model ROVs. Specifically, occupants may be better restrained in ROVs where the occupant seating location is significantly lower within the vehicle and the vehicle provides a physical shoulder guard on both the passenger and driver side that helps keep the occupant's upper torso within the vehicle.

2. Repair Program: In March 2009, the Commission negotiated a repair program involving the Yamaha Rhino 450, 660, and 700 model ROVs to address stability and handling issues with the vehicles.¹⁰ CPSC staff investigated more than 50 incidents, including 46 driver and passenger deaths. The manufacturer voluntarily agreed to design changes through a retrofit program that would increase the vehicle's SSF and change the vehicle's handling characteristic from oversteer to understeer. The repair consisted of: (1) The addition of rear spacers on the vehicle's rear wheels and the removal of the rear anti-sway bar to increase vehicle stability and improve handling; and (2) continued installation of half doors and passenger hand holds to help keep occupants' arms and legs inside the vehicle during a rollover.

¹⁰ CPSC Release #09-172, Yamaha Motor Corp. Offers Free Repair for 450, 660, and 700 Model Rhino Vehicles, (March 31, 2009).

3. Voluntary Standard: CPSC staff met with representatives of the Recreational Off-Highway Vehicle Association (ROHVA) on December 12, 2008, to discuss the development of an American National Standards Institute (ANSI) standard for ROVs. ROHVA was formed by four manufacturers, and one of its stated purposes is to develop a voluntary standard for ROVs. The ROHVA representatives presented an outline for a voluntary standard that included requirements for vehicle configuration, service and parking brake performance, and lateral and pitch stability. At this meeting, CPSC staff expressed concerns about the lateral stability and occupant protection aspects of the ROV class of vehicles. In particular, CPSC staff expressed concern regarding a proposed requirement for a 20 degree tilt angle for a fully loaded vehicle. CPSC staff suggested that ROHVA consider NHTSA's use of a vehicle's SSF to describe lateral stability and discussed the possibility of using an SSF greater than 1.0 as a minimum lateral stability requirement for ROVs. The ROHVA representatives rejected using SSF. In addition, CPSC staff encouraged ROHVA to develop requirements dedicated to ensuring adequate occupant protection.

On June 12, 2009, CPSC staff received a copy of the draft proposed American National Standard for Recreational Off-Highway Vehicles, ANSI/ROHVA 1-200X. The draft voluntary standard addresses design, configuration and performance aspects of ROVs, including requirements for accelerator, clutch, and gearshift controls; engine and fuel cutoff devices; lighting; tires; service and parking brake performance; lateral and pitch stability; occupant handholds and rollover protection structure (ROPS); seat belts; and requirements for labels and owner's manuals.

CPSC staff reviewed the draft standard and found no improvement from the proposals made by ROHVA at the December 2008 meeting in the areas of lateral stability and occupant protection. ROHVA continues to propose low tilt angles as a lateral stability requirement, continues to define stability coefficients for an unoccupied vehicle (an unrealistic use configuration), fails to address vehicle handling, and fails to address occupants coming out of a vehicle during a rollover event. This notice, in parts D.3.a through D.3.c of this preamble immediately below, discusses the CPSC staff's concerns on specific aspects of the draft standard.

a. Vehicle Stability: Section 8 of the draft voluntary standard, Lateral Stability, requires the following: That all ROVs, in a fully loaded configuration with occupants and cargo, laterally tilt up to 20 degrees on a tilt table without lifting off; that all ROVs, loaded with two occupants, laterally tilt up to 28 degrees on a tilt table without tipping over; and that all ROVs, in an unloaded configuration, meet a stability coefficient calculated from the vehicle's track width, center of gravity, and wheelbase that is at least 1.0.

CPSC staff does not believe the requirements in Section 8, Lateral Stability, are adequate to address vehicle rollover. As noted in part D.1.a of this preamble, CPSC staff believes that the lateral stability requirement for ROVs should be in an occupied configuration, and, at a minimum, should be in the 1.03 to 1.45 SSF range.

b. Vehicle Handling: The proposed voluntary standard does not include any requirements that address vehicle handling. CPSC staff believes ROVs should exhibit predictable understeering characteristics similar to passenger cars that will be familiar to and safer for drivers. As stated earlier in part D.1.b of this notice, understeering characteristics are safer and more familiar to drivers.

c. Occupant Retention and Protection: Section 4.7 of the draft voluntary standard, Seat Belt, requires that each seating position in a ROV have a minimum of a three-point seat belt that meets SAE J2292 Combination Pelvic/Upper Torso (Type 2) Operator Restraint Systems for Off-Road Work Machines.

The staff does not believe the requirement in section 4.7 is adequate to address occupant retention, especially in a rollover scenario. Occupant retention for ROVs is imperative because the vehicles are used in an off-road environment and at a relatively high rate of speed. CPSC testing indicates the current minimum requirement for a three-point seat belt does not adequately protect the occupant and does not address occupant limbs, torso, and head coming out of the vehicle. The staff believes a number of factors, such as occupant seating location within a vehicle, physical side guards such as doors and shoulder guards, four-point seat belts, and technologies for increasing seat belt use, can improve occupant retention.

E. Regulatory Alternatives To Address the Risks of Injury

The Commission could address the risks of injury associated with ROVs through rulemaking. Alternatively, the Commission could defer to the voluntary standards process. Based on the continuing deaths and injuries involving ROVs and a review of the draft requirements currently proposed by ROHVA, the Commission has preliminarily determined that the draft voluntary standard will not adequately address the deaths and injuries associated with ROV rollovers and collisions.

F. Request for Information and Comments

In accordance with section 9(a) of the CPSA, the Commission invites comments on the following matters:

1. With respect to the risk of injury identified by the Commission, the regulatory alternatives being considered, and other possible alternatives for addressing the risk.

2. Any existing standard or portion of a standard which could be issued as a proposed regulation.

3. A statement of intention to modify or develop a voluntary standard to address the risk of injury discussed in this notice, along with a description of a plan (including a schedule) to do so.

In addition, the Commission is interested in receiving the following information:

1. Definition of an ROV.

2. Technical reports of testing, evaluation, and analysis of the dynamic stability, handling characteristics, and occupant protection characteristics for ROVs.

3. Technical reports or standards that describe the minimum performance requirements for stability, handling characteristics, and occupant protection characteristics for ROVs.

4. Technical information on test and evaluation methods for defining ROV characteristics that are specifically relevant to the vehicle's stability.

5. Technical reports and evaluations of any prototype ROVs with enhanced safety designs.

6. Technical information on ROV/vehicle design specific to vehicle handling (e.g., suspension design and the use of sway bars).

7. Minimum and maximum track width considerations in ROV design.

8. Minimum and maximum ground clearance considerations in ROV design.

9. Minimum and maximum speed considerations in ROV design.

10. Information on the center of gravity heights of occupied and unoccupied ROV models currently on the market.

11. Information about the applicability of sensor technology to improve the safety of ROVs.

12. Technical information on technologies for increasing seat belt use.

13. Technical information on technologies for increasing the performance of seat belts.

14. Technical studies and evaluations of three-point, four-point, and five-point seat belts.

15. Technical information on ROPS design as it pertains to ground impact footprint and potential crushing injuries to the occupant.

16. Information on test procedures to evaluate occupant retention and protection performance during roll over.

17. Information on how non-fatal injuries associated with ROVs compare with those associated with ATVs in terms of severity and type of injury.

List of Relevant Documents

1. Briefing memorandum from Caroleene Paul, Project Manager, Directorate for Engineering Sciences, to the Commission, “Advance Notice of Proposed Rulemaking (ANPR) for Recreational Off-Highway Vehicles (ROVs),” September 25, 2009.

2. Memorandum from Caroleene Paul, Division of Mechanical Engineering, CPSC, to Robert J. Howell, Assistant Executive Director for Hazard Identification and Reduction, “Recreational Off-Highway Vehicles (ROVs),” September 25, 2009.

3. Memorandum from Sarah Garland, Mathematical Statistician, Division of Hazard Analysis, CPSC, and Robin Streeter, Mathematical Statistician, Division of Hazard Analysis, CPSC, to Caroleene Paul, Project Manager, Directorate for Engineering Sciences, “Review of Reported Injuries and Fatalities Associated with Recreational Off-Highway Vehicles (ROVs),” September 2009.

4. Memorandum from Robert Franklin, Economist, Directorate for Economic Analysis, CPSC, to Caroleene Paul, Project Manager, Directorate for Engineering Sciences, “Recreational Off-Highway Vehicles: Market Information,” September 25, 2009.

Dated: October 22, 2009.
Todd A. Stevenson,
Secretary, Consumer Product Safety Commission.

[FR Doc. E9-25959 Filed 10-27-09; 8:45 am]

BILLING CODE 6355-01-P